DEPARTMENT OF HOMELAND SECURITY

Federal Emergency Management Agency

[Docket ID FEMA-2015-0001; Internal Agency Docket No. FEMA-B-1511]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 8, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1511, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: May 21, 2015.
Roy E. Wright,
Deputy Associate Administrator for Mitigation, Department of Homeland Security, Federal Emergency Management Agency.

I. Watershed-based studies:

Community | Community map repository address
Deschutes Watershed
Maps Available for Inspection Online at: http://www.fema.gov/preliminaryfloodhazarddata
Thurston County, Washington, and Incorporated Areas
City of Lacey | City Hall—Community Development Department, 420 College Street Southeast, Lacey, WA 98503.
City of Olympia | City Hall, 601 4th Avenue East, Olympia, WA 98501.
City of Rainier | City Hall, 102 Rochester Street, Rainier, WA 98576.
City of Tumwater | City Hall, 555 Israel Road Southwest, Tumwater, WA 98501.
Unincorporated Areas of Thurston County | Thurston County Courthouse, 2000 Lakeridge Drive Southwest, Olympia, WA 98502.

II. Non-watershed-based studies:

Community | Community map repository address
Humboldt County, CA and Incorporated Areas
Maps Available for Inspection Online at: http://www.fema.gov/preliminaryfloodhazarddata
Project:14-09-2976S Preliminary Date: January 9, 2015
City of Arcata | City of Arcata, 525 9th Street, Arcata, CA 95521.
City of Blue Lake | City of Blue Lake, 111 Greenwood Avenue, Blue Lake, CA 95525.
City of Fortuna | City of Fortuna City Hall, 621 11th Street, Fortuna, CA 95540.
Unincorporated Areas of Humboldt County | Clark Complex, 3015 H Street, Eureka, CA 95501.
Trinity County, California, and Incorporated Areas
Maps Available for Inspection Online at: http://www.fema.gov/preliminaryfloodhazarddata
Project:11-09-0903S Preliminary Date: December 22, 2014
Unincorporated Areas of Trinity County | Planning Department & Planning Commission, 61 Airport Road, Weaverville, CA 96093.
Lee County, IL and Incorporated Areas
Maps Available for Inspection Online at: http://www.fema.gov/preliminaryfloodhazarddata
Project: 12-05-1345S Preliminary Date: August 20, 2014
City of Dixon | City Hall, Building and Zoning Office, 121 West Second Street, Dixon, IL 61021.
City of Rochelle | City Hall, 420 North Sixth Street, Rochelle, IL 61068.
Unincorporated Areas of Lee County | County Zoning Office, 112 East Second Street, Dixon, IL 61021.
Village of Nelson | Village Hall, 202 South Butler Street, Nelson, IL 61021.
Ogle County, IL and Incorporated Areas
Maps Available for Inspection Online at: http://www.fema.gov/preliminaryfloodhazarddata
Project:12-05-1345S Preliminary Date: August 20, 2014
City of Byron | City Hall, 232 West Second Street, Byron, IL 61010.
City of Oregon | City Hall, 115 North Third Street, Oregon, IL 61061.
City of Rochelle | City Hall, 420 North Sixth Street, Rochelle, IL 61068.
Unincorporated Areas of Ogle County | Ogle County Planning & Zoning Department, 911 West Pines Road, Oregon, IL 61061.
Village of Hillcrest | Village Hall, 204 Hillcrest Avenue, Rochelle, IL 61068.
Sedgwick County, Kansas, and Incorporated Areas
Maps Available for Inspection Online at: http://www.fema.gov/preliminaryfloodhazarddata
Project: 10-07-2217S Preliminary Date: January 23, 2015
City of Andale | Sedgwick County Metropolitan Area Building and Construction Department, 1144 South Seneca Street, Wichita, KS 67213.
City of Bel Aire | City Hall, 7651 East Central Park Avenue, Bel Aire, KS 67226.
City of Bentley | Sedgwick County Metropolitan Area Building and Construction Department, 1144 South Seneca Street, Wichita, KS 67213.
City of Cheney | City Hall, 131 North Main Street, Cheney, KS 67025.
City of Clearwater | City Hall, 129 East Ross Avenue, Clearwater, KS 67026.
City of Colwich | City Hall, 310 South Second Street, Colwich, KS 67030.
City of Derby | City Hall, 611 Mulberry Street, Suite 300, Derby, KS 67037.
City of Eastborough | City Hall, 1 Douglas Avenue, Eastborough, KS 67207.
City of Garden Plain | City Hall, 505 North Main Street, Garden Plain, KS 67050.
City of Goddard | City Hall, 118 North Main Street, Goddard, KS 67052.
City of Haysville | Planning Department, 200 West Grand Street, Haysville, KS 67060.
City of Kechi | City Hall, 220 West Kechi Road, Kechi, KS 67067.
City of Maize | City Hall, 10100 West Grady Avenue, Maize, KS 67101.
City of Mount Hope | City Hall, 112 West Main Street, Mount Hope, KS 67108.
City of Mulvane | City Hall, 211 North Second Street, Mulvane, KS 67110.
City of Park City | Economic Development & Planning, 6110 North Hydraulic Street, Park City, KS 67219.
City of Valley Center | City Hall, 121 South Meridian Avenue, Valley Center, KS 67147.
City of Viola | City Hall, 121 South Main Street, Viola, KS 67149.
City of Wichita | Office of Storm Water Management, 455 North Main Street, 8th Floor, Wichita, KS 67202.
Unincorporated Areas of Sedgwick County | Sedgwick County Metropolitan Area Building and Construction Department, 1144 South Seneca Street, Wichita, KS 67213.
Marion County, Missouri, and Incorporated Areas
Maps Available for Inspection Online at: http://www.fema.gov/preliminaryfloodhazarddata
Project: 11-07-0674S Preliminary Date: February 27, 2015
Unincorporated Areas of Marion County | County Courthouse, 100 South Main Street, Palmyra, MO 63461.
Saunders County, Nebraska, and Incorporated Areas
Maps Available for Inspection Online at: http://www.fema.gov/preliminaryfloodhazarddata
City of Wahoo | City Hall, 605 North Broadway Street, Wahoo, NE 68066.
Unincorporated Areas of Saunders County | Saunders County Courthouse, 433 North Chestnut Street, Wahoo, NE 68066.
Benton County, Oregon, and Incorporated Areas
Maps Available for Inspection Online at: http://www.fema.gov/preliminaryfloodhazarddata
Unincorporated Areas of Benton County | Benton County Community Development Department, 360 Southwest Avery Avenue, Corvallis, OR 97333.
Linn County, Oregon, and Incorporated Areas
Maps Available for Inspection Online at: http://www.fema.gov/preliminaryfloodhazarddata
City of Albany | City Hall, 333 Broadalbin Street Southwest, Albany, OR 97321.
Unincorporated Areas of Linn County | Linn County Courthouse, 300 Southwest 4th Avenue, Albany, OR 97321.
Pierce County, Washington, and Incorporated Areas
Maps Available for Inspection Online at: http://www.fema.gov/preliminaryfloodhazarddata
City of Bonney Lake | Justice and Municipal Center, 9002 Main Street East, Suite 300, Bonney Lake, WA 98391.
City of Buckley | Planning and Building Department, 811 Main Street, Buckley, WA 98321.
City of Dupont | City Hall, 1700 Civic Drive, Dupont, WA 98327.
City of Edgewood | City Hall, 2224 104th Avenue East, Edgewood, WA 98372.
City of Fife | City Hall, 5411 23rd Street East, Fife, WA 98424.
City of Fircrest | Planning and Building Department, 115 Ramsdell Street, Fircrest, WA 98466.
City of Gig Harbor | City Clerk's Office, 3510 Grandview Street, Gig Harbor, WA 98335.
City of Lakewood | City Hall, 6000 Main Street Southwest, Lakewood, WA 98499.
City of Milton | Public Works Department, 1000 Laurel Street, Milton, WA 98354.
City of Orting | City Hall, 110 Train Street Southeast, Orting, WA 98360.
City of Puyallup | City Hall, 333 South Meridian, Puyallup, WA 98371.
City of Roy | City Hall, 216 McNaught Street South, Roy, WA 98580.
City of Ruston | City Hall, 5117 North Winnifred Street, Ruston, WA 98407.
City of Sumner | City Hall, Public Works Counter, 1104 Maple Street, Sumner, WA 98390.
City of Tacoma | Municipal Building, 747 Market Street, Tacoma, WA 98402.
City of University Place | City Hall, 3715 Bridgeport Way West, Suite B-1, University Place, WA 98466.
Town of Eatonville | Town Hall, 201 Center Street West, Eatonville, WA 98328.
Town of South Prairie | Town Hall, 121 Northwest Washington Street, South Prairie, WA 98385.
Town of Steilacoom | Public Works Building, 1030 Roe Street, Steilacoom, WA 98388.
Town of Wilkeson | Town Hall, 540 Church Street, Wilkeson, WA 98396.
Unincorporated Areas of Pierce County | Pierce County Annex, 2401 South 35th Street, Tacoma, WA 98409.

[FR Doc. 2015-13862 Filed 6-5-15; 8:45 am]

BILLING CODE 9110-12-P